DEPARTMENT OF JUSTICE

Notice of Lodging of Proposed Consent Decrees Under the Comprehensive Environmental Response, Compensation, and Liability Act

On August 19, 2022, the Department of Justice lodged two proposed Consent Decrees with the United States District Court for the Southern District of Indiana in the lawsuit entitled United States v. Bridgestone Americas Tire Operations, LLC, et al., Case No. 1:22-cv-01647.

The United States filed a Complaint in this lawsuit under section 107 of the Comprehensive Environmental Response, Compensation, and Liability Act, 42 U.S.C. 9607. The Complaint seeks reimbursement of more than $1.98 million in costs that the U.S. Environmental Protection Agency (“EPA”) incurred for environmental cleanup-related response activities relating to the New Castle Asbestos Site in New Castle, Indiana. The three defendants in the lawsuit are Bridgestone Americas Tire Operations, LLC (“BATO”), Lear Siegler Diversified Holdings Corp. (“Lear Siegler”), and Ferodo America, LLC (“Ferodo”).

When the Complaint was filed, the United States also lodged two proposed Consent Decrees that would settle the claims asserted in the Complaint on agreed terms and conditions. The defendants would pay the United States a total of $850,000 in settlement of the United States' claims for recovery of EPA's unreimbursed past costs. Under one Consent Decree, BATO would pay $425,000 and Ferodo would pay $275,000. Under the other Consent Decree, Lear Sigler would pay $150,000.

The publication of this notice opens a period for public comment on the proposed Consent Decrees. Comments should be addressed to the Assistant Attorney General, Environment and Natural Resources Division, and should refer to United States v. Bridgestone Americas Tire Operations, LLC, et al., D.J. Ref. No. 90-11-2-770/3. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Consent Decrees may be examined and downloaded at this Justice Department website: https://www.justice.gov/enrd/consent-decrees.

We will provide a paper copy of the proposed Consent Decrees upon written request and payment of reproduction costs. Please mail your request and payment to: Consent Decree Library, U.S. DOJ—ENRD, P.O. Box 7611, Washington, DC 20044-7611.

For a copy of the Consent Decree with BATO and Ferodo, please enclose a check or money order for $6.75 (27 pages at 25 cents per page reproduction cost) payable to the United States Treasury. For a copy of the Consent Decree with Lear Siegler, please enclose a check or money order for $6.25 (25 pages at 25 cents per page reproduction cost) payable to the United States Treasury.

Susan M. Akers,
Assistant Section Chief, Environmental Enforcement Section, Environment and Natural Resources Division.

[FR Doc. 2022-18306 Filed 8-24-22; 8:45 am]

BILLING CODE 4410-15-P